DEPARTMENT OF HEALTH AND HUMAN SERVICES

Centers for Medicare & Medicaid Services

[Document Identifier: CMS-1557, CMS-R-0074, CMS-416, CMS-437A and 437B]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Survey Report Form Clinical Laboratory Improvement Amendments (CLIA) and supporting regulations under 42 CFR 493.1-493.2001; Form Number: CMS-1557 (OMB#: 0938-0544); Use: This form is used by the State agency to determine a laboratory's compliance with CLIA. This information is needed for a laboratory's CLIA certification and recertification; Frequency: Recordkeeping and Reporting—Biennially; Affected Public: Business or other for-profit, Not-for-profit institutions, Federal, State, Local or Tribal Government; Number of Respondents: 25,000; Total Annual Responses: 12,500; Total Annual Hours: 6,250.

2. Type of Information Collection Request: Extension of a currently approved collection; Title of Information Collection: Income and Eligibility Verification System Reporting in Section 1137 of the Social Security Act and Supporting Regulations in 42 CFR 431.17, 431.306, 435.910, 435.920, 435.940-435.960; Form Number: CMS-R-0074 (OMB#: 0938-0467); Use: This information is used to verify the income and eligibility of Medicaid applicants and recipients as required by Section 1137 of the Social Security Act; Affected Public: Individuals or Households and State, Local or Tribal Government; Number of Respondents: 54; Total Annual Responses: 54; Total Annual Hours: 124,054.

3. Type of Information Collection Request: Extension of a currently approved collection; Title of Information Collection: Annual Early and Periodic Screening, Diagnostic and Treatment Services (EPSDT) Participation Report; Form No.: CMS-416 (OMB #0938-0354); Use: States are required to submit an annual report on the provision of EPSDT services to CMS pursuant to section 1902(1)(43)(D) of the Social Security Act. These reports provide CMS with data necessary to assess the effectiveness of State EPSDT programs, to determine a state's results in achieving its participation goal, and to respond to inquiries; Frequency: Annually; Affected Public: State, Local or Tribal Government; Number of Respondents: 56; Total Annual Responses: 56; Total Annual Hours: 1,568.

4. Type of Information Collection Request: New Collection; Title of Information Collection: Rehabilitation Unit Criteria Work Sheet and Rehabilitation Hospital Criteria Work Sheet and Supporting Regulations at 42 CFR 488.26; Form Number: CMS-437A and CMS-437B (OMB#: 0938-NEW—NOTE: These instruments are currently approved under 0938-0358 but are being carved out into a separate collection as they are updated more frequently.); Use: The rehabilitation hospital and rehabilitation unit criteria work sheets are necessary to verify that these facilities/units comply and remain in compliance with the exclusion criteria for the Medicare prospective payment system; Frequency: Annually; Affected Public: Business or other-for-profit, Not-for-profit institutions, and State, Local, or Tribal Government; Number of Respondents: 1227; Total Annual Responses: 1227; Total Annual Hours: 306.75.

To obtain copies of the supporting statement and any related forms for these paperwork collections referenced above, access CMS Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB Desk Officer at the address below, no later than 5 p.m. on February 27, 2006. OMB Human Resources and Housing Branch, Attention: Brenda Aguilar, CMS Desk Officer, New Executive Office Building, Room 10235, Washington, DC 20503.

Dated: January 12, 2006.
Michelle Shortt,
Director, Regulations Development Group, Office of Strategic Operations and Regulatory Affairs.

[FR Doc. 06-605 Filed 1-26-06; 8:45 am]

BILLING CODE 4120-01-P